DEPARTMENT OF THE INTERIOR

Bureau of Ocean Energy Management

[Docket No. BOEM-2023-0013]

Gulf of Mexico Outer Continental Shelf Oil and Gas Lease Sale 261

AGENCY: Bureau of Ocean Energy Management, Interior.

ACTION: Notice regarding Lease Sale 261.

SUMMARY: With this notice, the Bureau of Ocean Energy Management (BOEM) is announcing that it is postponing Gulf of Mexico Lease Sale 261 pending further action by the United States Court of Appeals for the Fifth Circuit. To comply with an injunction sought and obtained by the State of Louisiana and other plaintiffs from the district court, as well as a subsequent order from the Fifth Circuit, BOEM had previously provided notice of its intent to hold Lease Sale 261 on November 8, 2023. On October 26, 2023, however, the Fifth Circuit stayed the relevant injunction and order pending the merits panel's decision on appeal. To avoid preempting the Fifth Circuit's decision, and avoid duplication of effort, BOEM is now deferring Lease Sale 261 pending disposition of the appeal that is before the Fifth Circuit.

Therefore, BOEM will not open and announce bids for the sale on November 8, 2023. BOEM will make future announcements regarding when and under what terms Lease Sale 261 will be held after the Court issues its ruling or provides additional direction to BOEM. Additional information and announcements will be made available on BOEM's website prior to the sale date. See http://www.boem.gov/sale-261.

FOR FURTHER INFORMATION CONTACT: The New Orleans Office Lease Sale Coordinator, Greg Purvis, at BOEMGOMRLeaseSales@boem.gov or 504-736-1729.

SUPPLEMENTARY INFORMATION: On August 25, 2023, BOEM published in the Federal Register the Final Notice of Sale (NOS) for Lease Sale 261. See 88 FR 58300. In that Final NOS, BOEM announced that the sale would be held on September 27, 2023. The State of Louisiana and other plaintiffs then challenged the Final NOS in the U.S. District Court for the Western District of Louisiana, seeking preliminary injunctions to force BOEM to (1) include lease blocks previously excluded to protect the Rice's whale and (2) remove provisions in Stipulation No. 4 (“Protected Species”) that BOEM had added to protect the Rice's whale from certain oil and gas activities while BOEM engaged in a reinitiated consultation under the Endangered Species Act.

On September 21, 2023, six days before the planned sale, the district court issued a preliminary injunction order requiring BOEM to include the previously excluded blocks and modify the stipulation by removing the new Rice's whale protections. The court also ordered BOEM to hold the sale on or before September 30, 2023. On September 22, 2023, the government appealed and filed an emergency motion in the U.S. Court of Appeals for the Fifth Circuit, requesting that the court stay or modify the injunction to avoid an inequitable sale and to allow for the administrative and legal processes necessary to hold the modified sale and provide the statutorily required notice to the public of the revised lease sale terms. (Case No. 23-30666). Intervenor-Defendants also appealed and filed an emergency motion in the Fifth Circuit, requesting that the Court stay the injunction in its entirety. On September 25, 2023, the Fifth Circuit issued an order directing BOEM to hold Lease Sale 261 as required by the district court, but permitting BOEM until November 8, 2023, to hold the sale. On October 6, 2023, BOEM published a revised Final NOS in accordance with the September 25, 2023, order, announcing the modified terms of the sale and notifying bidders that it would open bids on November 8, 2023. See 88 FR 69660. On October 26, 2023, the Fifth Circuit stayed the injunction in its entirety pending further action by that court and scheduled oral argument for November 13, 2023.

Under the Outer Continental Shelf Lands Act, BOEM has inherent discretion to postpone lease sales on reasonable grounds, including, as described in the October 6, 2023, notice, to comply with court orders. Because BOEM anticipates that the Fifth Circuit will further clarify the scope of BOEM's discretion and obligations concerning Lease Sale 261, BOEM has concluded that holding Lease Sale 261 before the Fifth Circuit resolves the appeal could result in duplication of effort and bidder confusion in the event that the November 8, 2023, sale is inconsistent with the Fifth Circuit's subsequent guidance. BOEM will therefore not hold Lease Sale 261 on November 8, 2023. Bidders wishing to participate in Lease Sale 261 should not submit bids until receiving further instructions from BOEM. Bids that were already received will be held by BOEM, and BOEM will notify bidders of how those bids will be handled once it receives further direction from the Fifth Circuit. In reaching this conclusion, BOEM is cognizant that the Inflation Reduction Act of 2022 directs BOEM to hold Lease Sale 261 by September 30, 2023, a deadline that BOEM was prepared to meet prior to plaintiffs' lawsuits.

As set forth above, BOEM is postponing the sale beyond its originally scheduled date in response to plaintiffs' lawsuits and the resulting judicial orders.

Authority: 43 U.S.C. 1337; 30 CFR part 556.

Elizabeth Klein,
Director, Bureau of Ocean Energy Management.

[FR Doc. 2023-24834 Filed 11-8-23; 8:45 am]

BILLING CODE 4340-98-P